DEPARTMENT OF LABOR

Employment and Training Administration

[TA-W-57,691]

Falcon Products, Inc., Currently Known as Commercial Furniture Group, Inc.; Shelby Williams Industries, Metal Chair Division, Including On-Site Leased Workers of Staff Mark, Morristown, Tennessee; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 26, 2005, applicable to workers of Falcon Products, Inc., Shelby Williams Industries, Metal Chair Division, including on-site leased workers of Staff Mark, Morristown, Tennessee. The notice was published in the Federal Register on October 31, 2005 (70 FR 62346).

At the request of the company, the Department reviewed the certification for workers of the subject firm. The workers are engaged in the production of metal chairs. The subject firm was renamed Commercial Furniture Group, Inc. in November 2005. The company reports that some workers wages at the subject firm are being reported under the Unemployment Insurance (UI) tax account for Commercial Furniture Group, Inc., Morristown, Tennessee.

Accordingly, the Department is amending the certification to properly reflect this matter.

The intent of the Department's certification is to include all workers of Falcon Products, Inc., Shelby Williams, Metal Chair Division who were adversely affected by a shift in production to China.

The amended notice applicable to TA-W-57,691 is hereby issued as follows:

All workers of Falcon Products, Inc., currently known as Commercial Furniture Group, Inc., Shelby Williams Industries, Metal Chair Division, Morristown, Tennessee, including on-site leased workers of Staff Mark, who became totally or partially separated from employment on or after August 8, 2004, through September 26, 2007, are eligible to apply for adjustment assistance under Section 223 of the Trade Act of 1974, and are also eligible to apply for alternative trade adjustment assistance under Section 246 of the Trade Act of 1974.

Signed at Washington, DC, this 21st day of March 2006.
Linda G. Poole,
Certifying Officer, Division of Trade Adjustment Assistance.

[FR Doc. E6-4854 Filed 4-3-06; 8:45 am]

BILLING CODE 4510-30-P